ENVIRONMENTAL PROTECTION AGENCY

[FRL OP-OFA-057]

Environmental Impact Statements; Notice of Availability

Responsible Agency: Office of Federal Activities, General Information 202-564-5632 or https://www.epa.gov/nepa.

Weekly receipt of Environmental Impact Statements (EIS)

Filed February 6, 2023 10 a.m. EST Through February 13, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230027, Final, FRA, NY, High Speed Rail Empire Corridor Tier 1, Review Period Ends: 03/20/2023, Contact: Brandon Bratcher 202-868-2626.

EIS No. 20230028, Draft, USFWS, CO, Colorado Gray Wolf 10(j) Rulemaking, Comment Period Ends: 04/03/2023, Contact: Nicole Alt 303-236-4213.

EIS No. 20230029, Final, USFS, NC, Nantahala and Pisgah National Forests Final Environmental Impact Statement for the Land Management Plan, Review Period Ends: 03/20/2023, Contact: Michelle Aldridge 828-257-4200.

EIS No. 20230030, Final, BLM, NM, SunZia Southwest Transmission Project Right-of-Way Amendment, Review Period Ends: 03/20/2023, Contact: Adrian Garcia 505-954-2199.

EIS No. 20230031, Draft, BOEM, MA, Mayflower Wind Project, Comment Period Ends: 04/03/2023, Contact: Jessica Stromberg 703-787-1722.

Dated: February 13, 2023.
Cindy S. Barger,
Director, NEPA Compliance Division, Office of Federal Activities.

[FR Doc. 2023-03397 Filed 2-16-23; 8:45 am]

BILLING CODE 6560-50-P